DEPARTMENT OF EDUCATION

Applications for New Awards; Educational Technology, Media, and Materials for Individuals With Disabilities Program—Stepping-Up Technology Implementation

AGENCY: Office of Special Education and Rehabilitative Services, Department of Education.

ACTION: Notice.

SUMMARY: The Department of Education (Department) is issuing a notice inviting applications for new awards for fiscal year (FY) 2020 for Educational Technology, Media, and Materials for Individuals with Disabilities—Stepping-up Technology Implementation, Catalog of Federal Domestic Assistance (CFDA) number 84.327S. This notice relates to the approved information collection under OMB control number 1820-0028.

DATES:

Applications Available: June 25, 2020.

Deadline for Transmittal of Applications: August 14, 2020.

Date of 84.327S Pre-Application Meeting: OSERS will conduct a pre-application meeting specific to these competitions via webinar on July 6, 2020, at 4:00 p.m., Eastern Time. In addition, no later than June 30, 2020, the Office of Special Education Programs (OSEP) will post a pre-recorded informational webinar designed to provide technical assistance to interested applicants. Information about the teleconference and the pre-recorded webinar may be found at www2.ed.gov/fund/grant/apply/osep/new-osep-grants.html.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Terry Jackson, U.S. Department of Education, 400 Maryland Avenue SW, Room 5128, Potomac Center Plaza, Washington, DC 20202-5076. Telephone: (202) 245-6039. Email: Terry.Jackson@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities Program are to (1) improve results for children with disabilities by promoting the development, demonstration, and use of technology; (2) support educational activities designed to be of educational value in the classroom for children with disabilities; (3) provide support for captioning and video description that is appropriate for use in the classroom; and (4) provide accessible educational materials to children with disabilities in a timely manner.¹

¹ Applicants should note that other laws, including the Americans with Disabilities Act of 1990 (42 U.S.C. 12101 et seq.; 28 CFR part 35) and section 504 of the Rehabilitation Act of 1973, as amended (29 U.S.C. 794; 34 CFR part 104), may require that State educational agencies (SEAs) and local educational agencies (LEAs) provide captioning, video description, and other accessible educational materials to students with disabilities when these materials are necessary to provide equally integrated and equally effective access to the benefits of the educational program or activity, or as part of a “free appropriate public education” as defined in 34 CFR 104.33.

Priorities: This competition includes two absolute priorities. In accordance with 34 CFR 75.105(b)(2)(v), these priorities are from allowable activities specified in sections 674(c)(1)(D) and 681(d) of the Individuals with Disabilities Education Act (IDEA); 20 U.S.C. 1474(c)(1)(D) and 1481(d).

Absolute Priorities: For FY 2020 and any subsequent year in which we make awards from the list of unfunded applications from this competition, these priorities are absolute priorities. Under 34 CFR 75.105(c)(3), we consider only applications that meet either Absolute Priority 1 or Absolute Priority 2. Applicants may apply under both absolute priorities but must submit separate applications.

These priorities are:

Absolute Priority 1—Providing Technology-Based Professional Development to Trainers of Special Education Teachers to Support Children With Disabilities.

Background:

Technology has enhanced professional development learning opportunities for teachers by expanding access to information and resources that support their content expertise and pedagogy and promote their professional growth. As an alternative to face-to-face professional development that can be expensive or impracticable (e.g., during an emergency), professional development facilitated by technology has the potential to more efficiently shape and impact teaching practices. Some examples of the technologies that can be used to support teacher learning include virtual coaching, in which a coach interacts electronically with teachers to improve teaching skills; learning management systems (LMS) that allow sharing of documents and data in one central location; and gamification, which involves bringing elements associated with video games into the learning environment to increase engagement and making tasks challenging.

McAleavy et al. (2018) noted that using technology to support teachers' professional learning can promote collaboration through professional learning communities and communities of practice. In addition, technology that can be used to build the skills of teachers and related services personnel in rural or remote areas may be more cost-effective than face-to-face trainings and will offer flexibility that allows teachers to train at a time and place that suits them.

However, regardless of the delivery, effective professional development must go beyond learning new materials and skills; it must also support teachers and related services personnel in improving classroom instruction and student learning (Gess-Newsome et al., 2003). Darling-Hammond et al. (2017) indicated that effective professional development should have the following features: (1) Be content focused, (2) incorporate active learning utilizing adult learning principles, (3) support collaboration, (4) use models and modeling of effective practices, (5) provide coaching and expert support, (6) offer opportunities for feedback and reflection, and (7) be of sustained duration.

The Department therefore intends to fund three cooperative agreements to (a) identify strategies needed to implement and integrate an existing technology-based tool or approach, based on at least promising evidence,² into the provision of teacher in-service training; and (b) provide ongoing technology-based professional development and coaching for in-service trainers in the use of technology to, and understanding of how the technology may, support teachers to improve classroom and remote learning environment instruction and learning outcomes for children with disabilities in pre-kindergarten through grade 12 (PK-12) settings.

² Section 8002 of Elementary and Secondary Education Act, as amended (ESEA) (2015).

Projects must be awarded and operated in a manner consistent with nondiscrimination requirements contained in the U.S. Constitution and Federal civil rights laws.

Priority:

To be considered for funding under this priority, applicants, at a minimum, must—

(a) Build partnerships with LEAs, at least one of which is in a rural location and that includes public and nonpublic schools, to support teacher in-service trainers in the understanding, use, and delivery of a technology-based tool or approach that will support teacher in-service training for instruction of children with disabilities in PK-12 instructional settings, including classrooms and remote learning environments;

(b) Increase the capacity of teacher in-service trainers to effectively use and implement a technology-based tool or approach that supports teacher classroom and remote learning environment instruction and professional growth;

(c) Develop an implementation package of products and resources that will help teacher in-service trainers to use a technology-based tool or approach; and

(d) Evaluate the effectiveness of the in-service training conducted using the technology-based tool or approach.

In addition to these programmatic requirements, to be considered for funding under this priority, applicants must meet the following application and administrative requirements in this priority:

(a) Demonstrate, in the narrative section of the application under “Significance,” how the proposed project will—

(1) Address the need for a technology-based tool or approach and identify specific gaps and weaknesses, infrastructure, or opportunities to support teacher in-service training. To meet this requirement the applicant must—

(i) Identify a fully developed technology-based tool or approach that is based on at least promising evidence;

(ii) Identify how the technology-based tool or approach will improve teacher in-service training and the capacity of teachers to deliver instruction or services for PK-12 children with disabilities;

(iii) Present applicable national, State, regional, or local data demonstrating the need for the identified technology-based tool or approach in teacher in-service training to support children with disabilities;

(iv) Identify current policies, procedures, and practices used by teacher in-service trainers that incorporate technology-based tools or approaches to meet their training needs;

(v) Identify systemic barriers, gaps, or challenges, including challenges using the identified technology-based tools or approaches in providing teacher in-service training; and

(vi) Describe the potential impact of the identified technology-based tool or approach on teacher in-service trainers, teachers, families and children with disabilities.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for ongoing coaching and supports;

(ii) Identify potential strategies to provide recipients of the in-service training with the flexibility to personalize their own learning and coaching supports; and

(iii) Ensure that products and resources meet the needs of the intended recipients of the grant;

(2) Achieve its goals, objectives, and intended outcomes. To meet this requirement, the applicant must provide—

(i) Measurable intended project outcomes; and

(ii) In Appendix A, the logic model ³ or conceptual framework by which the proposed project will achieve its intended outcomes that depicts, at a minimum, the goals, activities, outputs, and intended outcomes of the proposed project;

³ Logic model (also referred to as a theory of action) means a framework that identifies key project components of the proposed project (i.e., the active “ingredients” that are hypothesized to be critical to achieving the relevant outcomes) and describes the theoretical and operational relationships among the key project components and relevant outcomes. See 34 CFR 77.1.

(3) Use a logic model or conceptual framework (and provide a copy in Appendix A) to develop project plans and activities describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research. To meet this requirement, the applicant must—

(i) Describe how the proposed project will align to current research, policies, and practices related to the benefits, services, or opportunities that are available using the technology-based tool or approach;

(ii) Describe how the proposed project will incorporate current research and practices to guide the development and delivery of its products and resources, including accessibility and usability; and

(iii) Document that the technology tool used by the project is fully developed, based on at least promising evidence, and addresses, at a minimum, the following principles of universal design for learning (UDL):

(A) Multiple means of presentation so that information can be delivered in more than one way (e.g., specialized software and websites, screen readers that include features such as text-to-speech, changeable color contrast, alterable text size, or selection of different reading levels).

(B) Multiple means of expression that allow knowledge to be exhibited through options such as writing, online concept mapping, or speech-to-text programs, where appropriate.

(C) Multiple means of engagement to stimulate interest in and motivation for learning (e.g., options among several different learning activities or content for a particular competency or skill and providing opportunities for increased collaboration consistent with UDL principles).

(5) Develop new products and resources that are of high quality and sufficient intensity and duration to achieve the intended outcomes of the proposed project. To address this requirement, the applicant must—

(i) Provide a plan for recruiting and selecting a wide range of settings where children with disabilities are served, which must include the following:

(A) Three development sites. Development sites are the sites in which iterative development of the products and resources intended to support the implementation of technology tools will occur. The project must start implementing the technology tool with one development site in year one of the project period and two additional development sites in year two.

(B) Four pilot sites. Pilot sites are the sites in which try-out, formative evaluation, and refinement of the products and resources will occur. The project must work with the four pilot sites during years three and four of the project period.

(C) Ten dissemination sites. Dissemination/scale-up sites will be selected if the project is extended for a fifth year. Dissemination/scale-up sites will be used to (a) refine the products for use by educators, and (b) evaluate the performance of the technology tool. Dissemination/scale-up sites will receive less technical assistance (TA) from the project than development and pilot sites. Also, dissemination/scale-up sites will extend the benefits of the technology tool to additional students. To be selected as a dissemination/scale-up site, eligible sites must commit to working with the project to implement the technology tool.

(D) A site may not serve in more than one category (i.e., development, pilot, dissemination/scale-up).

(E) A minimum of three of the seven development and pilot sites must be in settings other than traditional public elementary and secondary schools and include at least one rural site. A minimum of four of the 10 dissemination/scale-up sites must be in settings other than traditional public elementary and secondary schools and include at least one rural site. These non-traditional and rural sites must otherwise meet the requirements of each category listed above.

(ii) Provide information on the development and pilot sites, including student demographics and other pertinent data (e.g., whether the settings are schools identified for comprehensive or targeted support and improvement in accordance with section 1111(c)(4)(C)(iii), (c)(4)(D), or (d)(2)(C)-(D) of the Elementary and Secondary Education Act of 1965, as amended (ESEA));

(iii) Provide its plan for dissemination, which must address how the project will systematically distribute information, products, and services to varied intended audiences, using a variety of dissemination strategies, to promote awareness and use of the project's products and resources;

(iv) Provide its plan for how the project will sustain project activities after funding ends; and

(v) Provide assurances that the final products disseminated to help sites effectively implement technology tools will be both open educational resources (OER) and licensed through an open access licensing authority.

(c) In the narrative section of the application under “Quality of the project evaluation,” include an evaluation plan for the project as described in the following paragraphs. The evaluation plan must describe measures of progress in implementation, including the criteria for determining the extent to which the project's products and resources have met the goals for reaching the project's target population; measures of intended outcomes or results of the project's activities in order to evaluate those activities; and how well the goals or objectives of the proposed project, as described in its logic model, have been met. The applicant must provide an assurance that, in designing the evaluation plan, it will—

(1) Provide a logic model or conceptual framework that depicts, at a minimum, the goals, activities, project evaluation, methods, performance measures, outputs, and outcomes of the proposed project;

(2) Provide a plan to implement the activities described in this priority;

(3) Provide a plan, linked to the proposed project's logic model or conceptual framework, for a formative evaluation of the proposed project's activities. The plan must describe how the formative evaluation will use clear performance objectives to ensure continuous improvement in the operation of the proposed project, including objective measures of progress in implementing the project and ensuring the quality of products and resources;

(4) Describe a plan or method for assessing—

(i) The development and pilot sites' current teacher in-service training uses and needs, any current in-service technology investments, and the knowledge and availability of dedicated on-site in-service training personnel;

(ii) The readiness of development and pilot sites to pilot or try-out the technology-based teacher in-service training, including at a minimum, their current infrastructure, available resources, and ability to build capacity;

(iii) Whether the technology-based tool or approach has achieved its intended outcomes for teacher in-service trainers and PK-12 teachers; and

(iv) Ongoing training needs of in-service trainers to implement with fidelity;

(5) Collect formative and summative data from the in-service training to refine and evaluate the products;

(6) If the project is extended to a fifth year—

(i) Provide the implementation package of products and resources developed for the technology-based tool or approach to no fewer than 10 additional school sites, one of which must be rural, in year five; and

(ii) Collect summative data about the success of the project's products and resources in supporting implementation of the technology-based tool or approach in teacher in-service training sites; and

(7) By the end of the project period, provide—

(i) Information on the products and resources, as supported by the project evaluation, including any accessibility features, that will enable other sites to implement and sustain implementation of the technology-based tool or approach;

(ii) Information in the Technology Implementation Report, including data on how in-service trainers used the technology-based tool or approach, and how the technology-based tool or approach was implemented with fidelity;

(iii) Data on how the technology-based tool or approach changed in-service trainers' practices; and

(iv) A plan for disseminating or scaling up the technology-based tool or approach and accompanying products beyond the sites directly involved in the project.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and resources provided are of high quality, relevant, and useful to recipients; and

(4) The proposed project will benefit from a diversity of perspectives, including those of families, educators, researchers, and policy makers, among others, in its development and operation.

(f) Address the following application requirements. The applicant must include—

(1) In Appendix A, personnel-loading charts and timelines, as applicable, to illustrate the management plan described in the narrative; and

(2) In the budget, attendance at the following:

(i) A one and one-half day kick-off meeting in Washington, DC, or virtually after receipt of the award, and an annual planning meeting in Washington, DC, with the Office of Special Education Programs (OSEP) project officer and other relevant staff during each subsequent year of the project period.

Note: Within 30 days of receipt of the award, a post-award teleconference must be held between the OSEP project officer and the grantee's project director or other authorized representative.

(ii) A two and one-half-day project directors' conference in Washington, DC, or a virtual conference during each year of the project period.

(iii) Two annual two-day trips to attend Department briefings, Department-sponsored conferences, and other meetings, as requested by OSEP.

(iv) A one-day intensive OSEP review meeting during the last half of the second year of the project period.

Cohort Collaboration and Support

OSEP project officer(s) will provide coordination support among the projects. Each project funded under this priority must—

(a) Participate in monthly conference-call discussions to share and collaborate on implementation and project issues; and

(b) Provide information annually using a template that captures descriptive data on project site selection and the processes for installation and use of the technology-based tool or approach (i.e., the implementation process).

Note: The following website provides more information about implementation research: https://nirn.fpg.unc.edu/national-implementation-research-network.

Fifth Year of Project

The Secretary may extend a project one year beyond the initial 48 months to work with dissemination/scale-up sites if the grantee is achieving the intended outcomes of the project (as demonstrated by data gathered as part of the project evaluation) and making a positive contribution to the implementation of a technology-based tool or approach based on at least promising evidence with fidelity in the development and pilot sites. Each applicant must include in its application a plan for the full 60-month period. In deciding whether to continue funding the project for the fifth year, the Secretary will consider the requirements of 34 CFR 75.253(a), and will consider—

(a) The recommendation of a review team consisting of the OSEP project officer and other experts selected by the Secretary. This review will be held during the last half of the second year of the project period;

(b) The success and timeliness with which the requirements of the negotiated cooperative agreement have been or are being met by the project; and

(c) The degree to which the project's activities have changed practices and improved outcomes for PK-12 children with disabilities.

References

Darling-Hammond, L., Hyler, M.E., & Gardner, M. (2017). Effective Teacher Professional Development. Learning Policy Institute. https://learningpolicyinstitute.org/product/teacher-prof-dev.

Gess-Newsome, J., Blocher, J.M., Clark, J., Menasco, J., & Willis, E.M. (2003). Technology infused professional development: A framework for development and analysis. Contemporary Issues in Technology and Teacher Education, 3(3). https://citejournal.org/volume-3/issue-3-03/general/technology-infused-professional-development-a-framework-for-development-and-analysis.

McAleavy, T., Hall-Chen, A., Horrocks, S., & Riggall, A. (2018). Technology-supported professional development for teachers: Lessons from developing countries. Education Development Trust. https://eric.ed.gov/?id=ED593386.

Absolute Priority 2—Improving Social Skill Development for Students with Disabilities Through the Use of Socially Assistive Robotics (SAR).

Background:

For students with disabilities, interpersonal skills, such as active listening, effective communication, and recognizing and understanding the points of view of others, are important to the development of healthy relationships and successful placement into the least restrictive environment. The lack of appropriate social skills can negatively impact student learning, can result in poor peer social interactions, and may lead to suspension, expulsion, and dropping out of school (Murry, 2018). Programs that support social skill development in school settings are important to ensure children do not learn in isolation, promote positive relationships, facilitate improved learning outcomes, and provide crucial skill sets that allow children to work alone and with others in the school setting (Connolly et al., 2016). Implementing social skill development in a systematic, school-wide approach is more beneficial than fragmented approaches, as it allows students' social skills to be cultivated along with academic skills and creates a common climate and culture throughout the school (DePaoli et al., 2017).

Making technology and SAR part of learning and social skill development for children with disabilities has become more prevalent over the years. Technology-based interventions, such as humanoid robots controlled by a human trainer and robotic therapeutic interventions that target repetitive behaviors and affective states in children with autism spectrum disorder (ASD), have been found to be beneficial for improving a wide range of skills and behaviors, including social and emotional skills, communication skills, academic skills, and challenging behaviors. Recent advancements in SAR have created an alternative educational approach to providing social skills supports for students with ASD. With machine learning, robots can predict a child's engagement based on their eye contact, dialogue, and other behavioral cues and then react and reengage them to help lengthen the time the child stays engaged in the therapeutic activity (Jain et al., 2020; Hao, 2020). SAR can help to provide an affordable, accessible, and personalized intervention and reduce the need for human interventions for students with ASD (Jain et al., 2020). Furthermore, SAR provide opportunities for students to learn through non-threatening, three-dimensional inanimate objects, while also providing opportunities to learn through imitation and interactions that encourage autonomous social behavior (Tennyson et al., 2016).

The Department therefore intends to fund two cooperative agreements to identify strategies needed to implement and integrate SAR to (a) help improve the social skills of children with disabilities; and (b) provide ongoing professional development and coaching for educators, students, or families in the use and understanding of how the technology can improve social skills and learning outcomes for children with disabilities in PK-12 settings.⁴

⁴ For the purposes of this priority, “settings” include general education classrooms; special education classrooms; charter schools; high-quality early childhood programs; private schools, including parochial schools; home education; after school programs; juvenile justice facilities; remote learning environments and any other settings in which students may receive services under IDEA.

Projects must be awarded and operated in a manner consistent with nondiscrimination requirements contained in the U.S. Constitution and Federal civil rights laws.

Priority:

To be considered for funding under this priority, applicants, at a minimum, must—

(a) Increase the capacity of educators, students, and families to effectively understand and implement SAR (referred to as a technology-based tool or approach in the remainder of the priority) to instruct and support social skills development for children with disabilities;

(b) Improve the social skill interactions of students with disabilities as a result of using a technology-based tool or approach;

(c) Develop an implementation package of products and resources that will help educators and school sites to understand and use a technology-based tool or approach;

(d) Evaluate the impact of a technology-based tool or approach on achieving the intended outcomes; and

(e) Ensure that a technology-based tool or approach meets the accessibility ⁵ and usability needs of the intended users.

⁵ Technology should meet current industry standards and guidelines for accessibility (e.g., Web Content Accessibility Guidelines (WCAG) 2.0 AA and section 508 of the Rehabilitation Act). For additional information on WCAG 2.0 please refer to www.w3.org/WAI/intro/wcag.

In addition to these programmatic requirements, to be considered for funding under this priority, applicants must meet the following application and administrative requirements in this priority:

(a) Demonstrate, in the narrative section of the application under “Significance,” how the proposed project will—

(1) Address the need for the technology-based tool or approach and identify specific gaps and weaknesses or opportunities to support teachers in the instructional setting, including classroom and remote learning environments. To meet this requirement the applicant must—

(i) Identify a fully developed technology-based tool or approach that is based on at least promising evidence;

(ii) Identify how the technology-based tool or approach will improve the social skills of PK-12 children with disabilities;

(iii) Present applicable national, State, regional, or local data demonstrating the need for the identified technology-based tool or approach in classrooms and remote learning environments to support the development of social skills in PK-12 children with disabilities;

(iv) Document that the technology-based tool or approach used by the project is fully developed and based on at least promising evidence and how the technology-based tool or approach will better enable teachers to deliver instruction or services across subject areas for PK-12 children with disabilities;

(v) Identify systemic barriers, gaps, or challenges, including challenges with the use of the identified technology-based tool or approach, faced by schools and teachers; and

(vi) Describe the potential impact of the identified technology-based tool or approach on schools, teachers, families, and children with disabilities.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for ongoing coaching and professional development supports; and

(ii) Ensure that products and resources meet the needs of the intended recipients of the grant;

(2) Achieve its goals, objectives, and intended outcomes. To meet this requirement, the applicant must provide—

(i) Measurable intended project outcomes; and

(ii) In Appendix A, the logic model ⁶ or conceptual framework by which the proposed project will achieve its intended outcomes that depicts, at a minimum, the goals, activities, outputs, and intended outcomes of the proposed project;

⁶ Logic model (also referred to as a theory of action) means a framework that identifies key project components of the proposed project (i.e., the active “ingredients” that are hypothesized to be critical to achieving the relevant outcomes) and describes the theoretical and operational relationships among the key project components and relevant outcomes. See 34 CFR 77.1.

(3) Use a logic model or conceptual framework (and provide a copy in Appendix A) to develop project plans and activities describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research. To meet this requirement, the applicant must—

(i) Describe how the proposed project will align to current research, policies, and practices related to the benefits, services, or opportunities that are available using the technology-based tool or approach;

(ii) Describe how the proposed project will incorporate current research and practices to guide the development and delivery of its products and resources, including accessibility and usability; and

(iii) Document that the technology tool used by the project is fully developed, based on at least promising evidence, and addresses, at a minimum, the following principles of UDL:

(A) Multiple means of presentation so that students can approach information in more than one way (e.g., specialized software and websites, screen readers that include features such as text-to-speech, changeable color contrast, alterable text size, or selection of different reading levels).

(B) Multiple means of expression so that all students can demonstrate knowledge through options such as writing, online concept mapping, or speech-to-text programs, where appropriate.

(C) Multiple means of engagement to stimulate interest in and motivation for learning (e.g., options among several different learning activities or content for a particular competency or skill and providing opportunities for increased collaboration consistent with UDL principles).

(5) Develop new products and resources that are of high quality and sufficient intensity and duration to achieve the intended outcomes of the proposed project. To address this requirement, the applicant must—

(i) Provide a plan for recruiting and selecting a wide range of settings where children with disabilities are served and that must include the following:

(A) Three development sites. Development sites are the sites in which iterative development of the products and resources intended to support the implementation of technology tools will occur. The project must start implementing the technology tool with one development site in year one of the project period and two additional development sites in year two.

(B) Four pilot sites. Pilot sites are the sites in which try-out, formative evaluation, and refinement of the products and resources will occur. The project must work with the four pilot sites during years three and four of the project period.

(C) Ten dissemination sites. Dissemination sites will be selected if the project is extended for a fifth year. Dissemination sites will be used to (a) refine the products for use by educators, and (b) evaluate the performance of the technology tool. Dissemination sites will receive less TA from the project than development or pilot sites. Also, dissemination sites will extend the benefits of the technology tool to additional students. To be selected as a dissemination site, eligible sites must commit to working with the project to implement the technology tool.

(D) A site may not serve in more than one category (i.e., development, pilot, dissemination).

(E) A minimum of three of the seven development and pilot sites must be in settings other than traditional public elementary and secondary schools and include at least one rural site. A minimum of four of the 10 dissemination sites must be in settings other than traditional public elementary and secondary schools and include at least one rural site. These non-traditional and rural sites must otherwise meet the requirements of each category listed above.

(ii) Provide information on the development and pilot sites, including student demographics and other pertinent data (e.g., whether the settings are schools identified for comprehensive or targeted support and improvement in accordance with section 1111(c)(4)(C)(iii), (c)(4)(D), or (d)(2)(C)-(D) of the ESEA);

(iii) Provide its plan for dissemination, which must address how the project will systematically distribute information, products, and services to varied intended audiences, using a variety of dissemination strategies, to promote awareness and use of the project's products and resources;

(iv) Provide its plan for how the project will sustain project activities after funding ends; and

(v) Provide assurances that the final products disseminated to help sites effectively implement technology tools will be both OER and licensed through an open access licensing authority.

(c) In the narrative section of the application under “Quality of the project evaluation,” include an evaluation plan for the project as described in the following paragraphs. The evaluation plan must describe measures of progress in implementation, including the criteria for determining the extent to which the project's products and resources have met the goals for reaching the project's target population; measures of intended outcomes or results of the project's activities in order to evaluate those activities; and how well the goals or objectives of the proposed project, as described in its logic model, have been met.

The applicant must provide an assurance that, in designing the evaluation plan, it will—

(1) Provide a logic model or conceptual framework that depicts, at a minimum, the goals, activities, project evaluation, methods, performance measures, outputs, and outcomes of the proposed project;

(2) Provide a plan to implement the project activities described in this priority;

(3) Provide a plan, linked to the proposed project's logic model or conceptual framework, for a formative evaluation of the proposed project's activities. The plan must describe how the formative evaluation will use clear performance objectives to ensure continuous improvement in the operation of the proposed project, including objective measures of progress in implementing the project and ensuring the quality of products and resources;

(4) Identify and develop resources and products that create accessible learning opportunities for all children, including children with disabilities and children with high needs, and make possible the sustained implementation of the selected technology tool. Development of the products must be an iterative process beginning in a single development school and continuing through repeated cycles of development and refinement in the other development sites, followed by a formative evaluation and refinement in the pilot sites. The products and resources must, at a minimum, include—

(i) An instrument or method for assessing—

(A) The site staff's current technology uses and needs, current technology investments, firewall issues, and the knowledge and availability of dedicated on-site technology personnel;

(B) The readiness of development and pilot school sites to pilot or try-out the technology-based tool or approach, including at a minimum, their current infrastructure, available resources, and ability to build capacity;

(C) Whether the technology-based tool or approach has achieved its intended outcomes for the end-user(s); and

(D) Ongoing training needs of teachers, students, or families to implement the technology-based tool or approach with fidelity;

(5) Collect formative and summative data to refine and evaluate the products;

(6) If the project is extended to a fifth year—

(i) Provide the implementation package of products and resources developed for the technology-based tool or approach to no fewer than 10 additional school sites; and

(ii) Collect summative data about the success of the project's products and resources in supporting implementation of the technology-based tool or approach; and

(7) By the end of the project period, provide—

(i) Information on the products and resources, as supported by the project evaluation, including any accessibility features, that will enable other sites to implement and sustain implementation of the technology-based tool or approach;

(ii) Information in the Technology Implementation Report, including data on how teachers, students, and families used the technology-based tool or approach, and how the technology-based tool or approach was implemented with fidelity;

(iii) Data on how the technology-based tool or approach changed teacher practices; and

(iv) A plan for disseminating or scaling up the technology-based tool or approach and accompanying products beyond the sites directly involved in the project.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and resources provided are of high quality, relevant, and useful to recipients; and

(4) The proposed project will benefit from a diversity of perspectives, including those of families, educators, researchers, and policy makers, among others, in its development and operation.

(f) Address the following application requirements. The applicant must include—

(1) In Appendix A, personnel-loading charts and timelines, as applicable, to illustrate the management plan described in the narrative; and

(2) In the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative.

(ii) A two and one-half-day project directors' conference in Washington, DC, during each year of the project period.

(iii) Two annual two-day trips to attend Department briefings, Department-sponsored conferences, and other meetings, as requested by OSEP.

(iv) A one-day intensive OSEP review meeting during the last half of the second year of the project period.

Cohort Collaboration and Support

OSEP project officer(s) will provide coordination support among the projects. Each project funded under this priority must—

(a) Participate in monthly conference-call discussions to share and collaborate on implementation and project issues; and

(b) Provide information annually using a template that captures descriptive data on project site selection, and the processes for installation and use of the technology-based tool or approach (i.e., the implementation process).

Note: The following website provides more information about implementation research: https://nirn.fpg.unc.edu/national-implementation-research-network.

Fifth Year of Project

The Secretary may extend a project one year beyond the initial 48 months to work with dissemination/scale-up sites if the grantee is achieving the intended outcomes of the project (as demonstrated by data gathered as part of the project evaluation) and making a positive contribution to the implementation of a technology-based tool or approach based on at least promising evidence with fidelity in the development and pilot sites. Each applicant must include in its application a plan for the full 60-month period. In deciding whether to continue funding the project for the fifth year, the Secretary will consider the requirements of 34 CFR 75.253(a), and will consider—

(a) The recommendation of a review team consisting of the OSEP project officer and other experts selected by the Secretary. This review will be held during the last half of the second year of the project period;

(b) The success and timeliness with which the requirements of the negotiated cooperative agreement have been or are being met by the project; and

(c) The degree to which the project's activities have changed practices and improved outcomes for PK-12 children with disabilities.

References

Connolly, P., Miller, S., Mooney, J., Sloan, S., & Hanratty, J. (2016). Universal school-based programmes for improving social and emotional outcomes in children aged 3-11 years: A systematic review and meta-analysis. The Campbell Collaboration. www.campbellcollaboration.org/media/k2/attachments/Connolly_Universal_Schoolbased_Programmes_Title.pdf.

DePaoli, J. L., Atwell, M.N., & Bridgeland, J. (2017). Ready to lead: A national principal survey on how social and emotional learning can prepare children and transform schools. www.casel.org/wp-content/uploads/2017/11/ReadyToLead_FINAL.pdf.

Hao, K. (2020, February 26). Robots that teach autistic kids social skills could help them develop. MIT Technology Review. www.technologyreview.com/s/615288/ai-robots-teach-autistic-kids-social-skills-development/.

Jain, S., Thiagarajan, B., Shi, Z., Clabaugh, C., & Matarić, M.J. (2020). Modeling engagement in long-term, in-home socially assistive robot interventions for children with autism spectrum disorders. Science Robotics, 5(3). https://doi.org/10.1126/scirobotics.aaz3791.

Murry, F. (2018). Using assistive technology to generate social skills use for students with emotional behavior disorders. Rural Special Education Quarterly, 37(4), 235-244. https://doi.org/10.1177/8756870518801367.

Tennyson, M. F., Kuester, D. A., Casteel, J., & Nikolopoulos, C. (2016). Accessible robots for improving social skills of individuals with autism. Journal of Artificial Intelligence and Soft Computing Research, 6(4), 267-277. https://doi.org/10.1515/jaiscr-2016-0020.

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1474 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: $2,500,000.

Contingent upon the availability of funds and the quality of applications, we may make additional awards in FY 2021 from the list of unfunded applications from this competition.

Estimated Range of Awards: $450,000 to $500,000 per year.

Estimated Average Size of Awards: $475,000 per year.

Maximum Award: We will not make an award exceeding $2,500,000 for the 60-month project period.

Estimated Number of Awards: 5.

Note: The Department is not bound by any estimates in this notice.

Project Period: Up to 60 months.

III. Eligibility Information

1. Eligible Applicants: SEAs; LEAs, including public charter schools that operate as LEAs under State law; IHEs; other public agencies; private nonprofit organizations; freely associated States and outlying areas; Indian Tribes or Tribal organizations; and for-profit organizations.

2. Cost Sharing or Matching: This program does not require cost sharing or matching.

3. Subgrantees: A grantee under this competition may not award subgrants to entities to directly carry out project activities described in its application. Under 34 CFR 75.708(e), a grantee may contract for supplies, equipment, and other services in accordance with 2 CFR part 200.

4. Other General Requirements: (a) Recipients of funding under this competition must make positive efforts to employ and advance in employment qualified individuals with disabilities (see section 606 of IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements andinformation on how to submit an application.

2. Intergovernmental Review: This competition is subject to Executive Order 12372 and the regulations in 34 CFR part 79. However, under 34 CFR 79.8(a), we waive intergovernmental review in order to make awards by the end of FY 2020.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages and (2) use the following standards:

• A “page” is 8.5″ × 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The significance of the problem or issue to be addressed by the proposed project;

(ii) The extent to which specific gaps or weaknesses in services, infrastructure, or opportunities have been identified and will be addressed by the proposed project, including the nature and magnitude of those gaps or weaknesses;

(iii) The potential contribution of the proposed project to increased knowledge or understanding of educational problems, issues, or effective strategies; and

(iv) The potential replicability of the proposed project or strategies, including, as appropriate, the potential for implementation in a variety of settings.

(b) Quality of project services (30 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services;

(iv) The extent to which the services to be provided by the proposed project are appropriate to the needs of the intended recipients or beneficiaries of those services; and

(v) The likely impact of the services to be provided by the proposed project on the intended recipients of those services.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation include the use of objective performance measures that are clearly related to the intended outcomes of the project and will produce quantitative and qualitative data to the extent possible;

(iii) The extent to which the methods of evaluation provide for examining the effectiveness of project implementation strategies;

(iv) The extent to which the methods of evaluation will provide performance feedback and permit periodic assessment of progress toward achieving intended outcomes; and

(v) The extent to which the evaluation plan clearly articulates the key project components, mediators, and outcomes, as well as a measurable threshold for acceptable implementation.

(d) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator;

(ii) The qualifications, including relevant training and experience, of key project personnel;

(iii) The qualifications, including relevant training and experience, of project consultants or subcontractors;

(iv) The adequacy of support, including facilities, equipment, supplies, and other resources, from the applicant organization or the lead applicant organization;

(v) The relevance and demonstrated commitment of each partner in the proposed project to the implementation and success of the project; and

(vi) The extent to which the costs are reasonable in relation to the objectives, design, and potential significance of the proposed project.

(e) Quality of the management plan (15 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) The adequacy of mechanisms for ensuring high-quality products and services from the proposed project;

(iv) How the applicant will ensure that a diversity of perspectives are brought to bear in the operation of the proposed project, including those of parents, teachers, the business community, a variety of disciplinary and professional fields, recipients or beneficiaries of services, or others, as appropriate; and

(v) The adequacy of procedures for ensuring feedback and continuous improvement in the operation of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance Results Modernization Act of 2010, the Department has established a set of performance measures, including long-term measures, that are designed to yield information on various aspects of the effectiveness and quality of the Educational Technology, Media, and Materials (ETechM2) for Individuals with Disabilities Program. These measures are:

• Program Performance Measure 1: The percentage of ETechM2 Program products and services judged to be of high quality by an independent review panel of experts qualified to review the substantial content of the products and services.

• Program Performance Measure 2: The percentage of ETechM2 Program products and services judged to be of high relevance to improving outcomes for infants, toddlers, children, and youth with disabilities.

• Program Performance Measure 3: The percentage of ETechM2 Program products and services judged to be useful in improving results for infants, toddlers, children, and youth with disabilities.

• Program Performance Measure 4.1: The Federal cost per unit of accessible educational materials funded by the ETechM2 Program.

• Program Performance Measure 4.2: The Federal cost per unit of accessible educational materials from the National Instructional Materials Accessibility Center funded by the ETechM2 Program.

• Program Performance Measure 4.3: The Federal cost per unit of video description funded by the ETechM2 Program.

These measures apply to projects funded under this competition, and grantees are required to submit data on these measures as directed by OSEP.

Grantees will be required to report information on their project's performance in annual performance reports and additional performance data to the Department (34 CFR 75.590 and 75.591).

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-13737 Filed 6-24-20; 8:45 am]

BILLING CODE 4000-01-P